DEPARTMENT OF ENERGY

Federal Energy Regulatory Commission

[Docket No. ER03-1337-000]

Northeast Utilities Service Company; Notice of Filing

October 3, 2003.

Take notice that on September 15, 2003, Northeast Utilities Service Company (NUSCO) on behalf of its operating company affiliates, The Connecticut Light and Power Company, Western Massachusetts Electric Company, Holyoke Power and Electric Company and Holyoke Water Power Company (the NU Companies) submitted for filing a fourth amendment to the Settlement Agreement approved by the Commission in Northeast Utilities Service Company, 88 FERC ¶ 61,006 (the Settlement) to extend the rates, terms and conditions of the Settlement for an additional period of thirty days commencing on September 14, 2003.

NUSCO states that it does not consider this filing to constitute a rate change within the meaning of 18 CFR 35.13. To the extent that the Commission disagrees, NUSCO requests that the Commission waive the requirements of 18 CFR 35.13.

NUSCO states that a copy of this filing has been mailed to the service list. NUSCO requests an effective date of September 14, 2003 and requests any waivers of the Commission's regulations that may be necessary to permit such an effective date.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the eLibrary (FERRIS) link. Enter the docket number excluding the last three digits in the docket number field to access the document. For assistance, please contact FERC Online Support at FERCOnlineSupport@ferc.gov or toll-free at (866)208-3676, or for TTY, contact (202) 502-8659. Protests and interventions may be filed electronically via the Internet in lieu of paper; see 18 CFR 385.2001(a)(1)(iii) and the instructions on the Commission's web site under the “e-Filing” link. The Commission strongly encourages electronic filings.

Comment Date: October 14, 2003.

Linda Mitry,
Acting Secretary.

[FR Doc. E3-00092 Filed 10-21-03; 8:45 am]

BILLING CODE 6717-01